DEPARTMENT OF THE INTERIOR

Fish and Wildlife Service

Notice of Re-Opening of Comment Period for Marine Mammal Permit Applications; PRT-020575 and 043001

The Fish and Wildlife Service is re-opening the comment period for applications submitted by Aquamarine Fukushima, Iwaki, Japan, PRT-020575, and Ibaraki Prefectural Oarai Aquarium, Ibaraki, Japan, PRT-043001, to conduct certain activities with marine mammals, specifically, the taking of northern sea otter (Enhydra lutris lutris) from the wild in Alaska for export and public display in Japan. These applications were submitted to satisfy the requirements of the Marine Mammal Protection Act of 1972, as amended (16 U.S.C. 1361 et seq.) and the regulations governing marine mammals (50 CFR 18). A notice of receipt of these applications for a permit was published in the Federal Register on June 15, 2001 (66 FR 32635). The comment period closed on July 15, 2001. On July 20, 2001, and July 23, 2001, the applicants submitted additional information in support of their applications. The reopening of the comment period will allow all interested parties to review the new information and provide the Service with any additional comments regarding these applications. In re-opening this comment period the Service further notifies the public that current information indicates the proposed activities, if authorized, qualify as categorical exclusions under the National Environmental Policy Act as described in Federal Register, vol. 62. No. 11, 1/16/97, and Departmental Manual 516 DM 6 Appendix 1, Section 1.4 C. Therefore, the Service does not anticipate holding a public hearing regarding these proposed activities.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203.

Written data, comments, or requests, should be sent to the U.S. Fish and Wildlife Service, Division of Management Authority, 4401 N. Fairfax Drive, Room 700, Arlington, Virginia 22203, telephone 703/358-2104 or fax 703/358-2281. These data, comments, or requests must be received within 30 days of the date of publication of this notice.

Dated: August 3, 2001.
Monica Farris,
Senior Permit Biologist, Branch of Permits, Division of Management Authority.

[FR Doc. 01-20382 Filed 8-13-01; 8:45 am]

BILLING CODE 4310-55-P